ENVIRONMENTAL PROTECTION AGENCY

40 CFR Part 52

[EPA-R05-OAR-2022-0673; FRL-10900-01-R5]

Air Plan Approval; Illinois; NAAQS Update

AGENCY: Environmental Protection Agency (EPA).

ACTION: Proposed rule.

SUMMARY: The Environmental Protection Agency (EPA) is proposing to approve a State Implementation Plan (SIP) revision submitted by the Illinois Environmental Protection Agency (IEPA or Illinois). The revision, submitted on July 8, 2022, incorporates revisions to the Illinois air pollution control rules entitled “Part 243—Ambient Air Quality Standards” and also updates the “List of Designated Reference and Equivalent Methods” in response to EPA rulemakings and changes to the National Ambient Air Quality Standards (NAAQS) that EPA adopted in 2021.

DATES: Comments must be received on or before August 23, 2023.

ADDRESSES: Submit your comments, identified by Docket ID No. EPA-R05-OAR-2022-0673 at https://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Daphne Onsay, Life Scientist, Control Strategies Section, Air Programs Branch (AR-18J), Environmental Protection Agency, Region 5, 77 West Jackson Boulevard, Chicago, Illinois 60604, (312) 886-5945, onsay.daphne@epa.gov. The EPA Region 5 office is open from 8:30 a.m. to 4:30 p.m., Monday through Friday, excluding Federal holidays and facility closures due to COVID-19.

SUPPLEMENTARY INFORMATION: Throughout this document whenever “we,” “us,” or “our” is used, we mean EPA.

I. What are the State rule revisions?

On July 8, 2022, IEPA submitted a request to EPA to incorporate revisions to the Illinois air pollution control rules in Title 35 of the Illinois Administrative Code, Part 243—Air Quality Standards. The submission updates sections 243.108 and 243.122. Part 243 includes Illinois' adoption of ambient air quality standards related to the NAAQS.

II. What is EPA's analysis of the State's submittal?

Illinois revised Part 243 to reflect amendments to EPA's “List of Designated References and Equivalent Methods” used to determine compliance with the NAAQS (fine particulate matter (PM2.5) and coarse particulate matter (PM10), SO2, carbon monoxide (CO), lead (Pb), oxides of nitrogen (NOX), and ozone (O3)). In addition to these changes, Illinois updated existing rule language to address EPA's revocation of the 1971 primary, 24-hour, and annual average NAAQS for SO2.

Other revisions to Part 243 include a range of administrative changes, such as making grammatical corrections, removing the unnecessary version date from the Code of Federal Regulations (CFR) citations, and updating the CFR citations to the latest version available.

EPA is proposing to approve the revisions to Part 243 which are described below:

Section 243.108 Incorporation by Reference—incorporates by reference EPA's “List of Designated Reference and Equivalent Methods” for measuring ambient concentrations to demonstrate compliance with the NAAQS (PM2.5 and PM10, SO2, CO, Pb, NOX, and O3).

EPA designated one new Federal reference monitoring method on March 4, 2021 (86 FR 12682) for SO2 in ambient air. On December 15, 2021, EPA updated the “List of Designated Reference and Equivalent Methods” to include the new Federal reference monitoring method for SO2. The proposed SIP revision would update section 243.108 to incorporate the changes based on EPA's action dated December 15, 2021.

Section 243.122 Sulfur Oxides (Sulfur Dioxide)—the sulfur oxide (as SO2) primary and secondary standards and measurement methods, respectively, in subsections 243.122(a) and (b). EPA removed the 1971 primary, 24 hour, and annual standard on April 30, 2022. IEPA has removed (subsection 243.122(a) to be consistent with EPA's actions. IEPA has updated its SO2 standard (section 243.122) to reflect updates at the Federal level.

III. Section 110(l) Analysis of the State's Submittal

EPA is proposing to approve the revisions to Part 243 discussed above because the revisions meet all applicable requirements under section 110(k)(3) the Clean Air Act (CAA). Furthermore, Illinois has shown that the revisions to Part 243 do not interfere with any applicable requirement concerning attainment and reasonable further progress or any other applicable CAA requirement, consistent with section 110(l) of the CAA.

Under section 110(l) of the CAA, EPA shall not approve a SIP revision if it would interfere with any applicable requirement concerning attainment and reasonable further progress (as defined in section 171 of the CAA) or any other applicable requirement of the CAA. The proposed SIP revision would not interfere with any applicable CAA requirements based on technical analysis submitted by Illinois. Part 243 contains the state's ambient air quality standards, which are now consistent with the NAAQS. The changes to the ambient air quality standards in Part 243 rules will have no effect on actual or allowable emissions as they only update references to the NAAQS in the Illinois SIP. Illinois has shown there is no impact of revising Part 243 that would hinder Illinois' ability to maintain and meet the NAAQS for NO2, O3, Pb, PM2.5, PM10, SO2, and CO. Therefore, these revisions to sections 243.108 and 243.122 are approvable as they update sections 243.108 and 243.122 to be consistent with EPA's promulgated NAAQS. The revisions will not increase any emissions to the atmosphere because they do not impact on any source applicability or emissions.

IV. What action is EPA taking?

EPA is proposing to approve a revision to the Illinois SIP. The submittal updates revisions to the Illinois regulations at Title 35 of the Illinois Administrative Code, Part 243—Air Quality Standards (Part 243). Specifically, the updates made to the following rules in Part 243: Sections 243.108 and 243.122 to be “identical in substance” to and consistent with updates to the list of designated Federal equivalent and reference methods and updates to the NAAQS adopted by EPA. IEPA's revisions mirror EPA's reference method for the 2010 1-hour SO2 standard. IEPA removed the 1971 primary, 24 hour and annual SO2 standard reflecting EPA's action at the Federal level.

V. Incorporation by Reference

In this rule, EPA is proposing to include in a final EPA rule regulatory text that includes incorporation by reference. In accordance with requirements of 1 CFR 51.5, EPA is proposing to incorporate by reference Illinois rules 243.108 and 243.122, effective May 18, 2022, discussed in section II of this preamble. EPA has made, and will continue to make, these documents generally available through www.regulations.gov and at the EPA Region 5 Office (please contact the person identified in the FOR FURTHER INFORMATION CONTACT section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rulemaking does not have tribal implications and will not impose substantial direct costs on tribal governments or preempt tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

IEPA did not evaluate environmental justice considerations as part of its SIP submittal; the CAA and applicable implementing regulations neither prohibit nor require such an evaluation. EPA did not perform an EJ analysis and did not consider EJ in this action. Consideration of EJ is not required as part of this action, and there is no information in the record inconsistent with the stated goal of E.O. 12898 of achieving environmental justice for people of color, low-income populations, and Indigenous peoples.

List of Subjects in 40 CFR Part 52

Environmental protection, Air pollution control, Carbon monoxide, Incorporation by reference, Intergovernmental relations, Ozone, Particulate matter, Sulfur oxides, Volatile organic compounds.

Dated: July 13, 2023.
Debra Shore,
Regional Administrator, Region 5.

[FR Doc. 2023-15290 Filed 7-21-23; 8:45 am]

BILLING CODE 6560-50-P